DEPARTMENT OF ENERGY

Federal Energy Regulatory Commission

[Docket No. RP02-331-000]

PG&E Gas Transmission, Northwest Corporation; Notice of Tariff Filing

May 7, 2002.

Take notice that on May 1, 2002, PG&E Gas Transmission, Northwest Corporation (GTN) tendered for filing (to be part of its FERC Gas Tariff, First Revised Volume No. 1-A) Pro Forma Sheet No. 5 and Pro Forma Sheet No. 142, to comply with Commission orders issued August 6, 2001 and October 26, 2001 in Docket Nos. CP01-141-000 and -001, respectively. GTN indicates that these pro forma tariff sheets are intended to 1) establish an incremental fuel surcharge for shippers utilizing capacity currently being constructed as part of GTN's 2002 Pipeline Expansion Project (“02 Expansion”) and 2) establish a mechanism that will allow GTN to roll-down its proposed incremental fuel surcharge, consistent with the mechanisms described in the Commission's Statement of Policy on new pipeline construction. GTN indicates further that it is proposing to eliminate the applicability of its Competitive Equalization Surcharge to “02 Expansion Shippers.

GTN requests that the Commission act upon the pro forma tariff sheets by July 1, 2002, in order to provide certainty to the market regarding the outcome of GTN's proposal prior to the start of the winter heating season. Following the outcome of the Commission's review of this filing, GTN states that it will file actual tariff sheets with a November 1, 2002 effective date, i.e., the anticipated in-service date for 97,500 horsepower of compression associated with GTN's “02 Expansion.

GTN further states that a copy of this filing has been served on GTN's jurisdictional customers and interested state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-11859 Filed 5-10-02; 8:45 am]

BILLING CODE 6717-01-P